DEPARTMENT OF TRANSPORTATION

Federal Aviation Administration

14 CFR Part 39

[Docket No. FAA-2021-1073; Project Identifier AD-2021-01252-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2017-24-10, which applies to certain The Boeing Company Model 757-200, -200PF, and -300 series airplanes. AD 2017-24-10 requires repetitive inspections for any cracking of a certain fuselage frame inner chord; identification of the material of a certain fuselage frame inner chord for certain airplanes; and applicable corrective actions. Since the FAA issued AD 2017-24-10, the FAA has received reports of new crack findings outside of the AD 2017-24-10 inspection area, which the existing inspections will not detect. This proposed AD would continue to require the actions in AD 2017-24-10, would add new airplanes and would require new inspection types in certain areas, an expanded inspection area, additional inspections, and applicable corrective actions. The FAA is proposing this AD to address the unsafe condition on these products.

DATES: The FAA must receive comments on this proposed AD by March 7, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2021-1073.

Examining the AD Docket

You may examine the AD docket at https://www.regulations.gov by searching for and locating Docket No. FAA-2021-1073; or in person at Docket Operations between 9 a.m. and 5 p.m., Monday through Friday, except Federal holidays. The AD docket contains this NPRM, any comments received, and other information. The street address for Docket Operations is listed above.

FOR FURTHER INFORMATION CONTACT: Peter Jarzomb, Aerospace Engineer, Airframe Section, FAA, Los Angeles ACO Branch, 3960 Paramount Boulevard, Lakewood, CA 90712-4137; phone: 562-627-5234; email: peter.jarzomb@faa.gov.

SUPPLEMENTARY INFORMATION:

Comments Invited

The FAA invites you to send any written relevant data, views, or arguments about this proposal. Send your comments to an address listed under ADDRESSES. Include “Docket No. FAA-2021-1073; Project Identifier AD-2021-01252-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Peter Jarzomb, Aerospace Engineer, Airframe Section, FAA, Los Angeles ACO Branch, 3960 Paramount Boulevard, Lakewood, CA 90712-4137; phone: 562-627-5234; email: peter.jarzomb@faa.gov. Any commentary that the FAA receives which is not specifically designated as CBI will be placed in the public docket for this rulemaking.

Background

The FAA issued AD 2017-24-10, Amendment 39-19114 (82 FR 57343, December 5, 2017) (AD 2017-24-10), for certain The Boeing Company Model 757-200, -200PF, and -300 series airplanes. AD 2017-24-10 was prompted by reports of cracking found at a certain fuselage frame inner chord. AD 2017-24-10 requires repetitive inspections for any cracking of a certain fuselage frame inner chord; identification of the material of a certain fuselage frame inner chord for certain airplanes; and applicable corrective actions. The agency issued AD 2017-24-10 to detect and correct such cracks, which could result in the cargo door opening during flight, and result in rapid decompression of the airplane and the inability to sustain loads required for continued safe flight and landing.

Actions Since AD 2017-24-10 Was Issued

Since the FAA issued AD 2017-24-10, the FAA has received reports of new crack findings outside of the AD 2017-24-10 inspection area, which the existing inspections will not detect. An operator was accomplishing Boeing Alert Service Bulletin 757-53A0101, dated November 8, 2016, which is the service information required by AD 2017-24-10) on a certain The Boeing Company Model 757-200 airplane and found four cracks ranging from 0.10 to 2.00 inches in length in the station (STA) 1380 frame web and two cracks ranging from 1.00 to 2.12 inches in length in the frame inner chord. The airplane had 23,005 total flight cycles at the time of the crack findings. The frame web was made from 0.09 inch thick 2024-T3 aluminum, and the inner chord was made from 7075-T73 aluminum. Based on the length of the crack in the web at the time of discovery, the cracks in the frame may have initiated in the 2024-T3 web, and would have been hidden behind the guide track fitting. If the cracks start in the frame web, existing Maintenance Planning Data (MPD) and Boeing Alert Service Bulletin 757-53A0101, dated November 8, 2016, inspections do not provide sufficient opportunities to find cracks in the STA 1380 frame before the critical crack length is reached, resulting in an airplane-level safety issue.

In addition, the FAA has received five reports of crack findings in airplanes with production line numbers 1-57, which are made with 7075 material for the inner and outer chord and the frame web. Those airplanes may also have a thinner web gauge than that in airplanes with line numbers 58 and subsequent. Existing inspections for these airplanes do not remove the guide track fitting at STA 1380, and therefore do not provide sufficient opportunity to detect cracks before the critical crack length is reached.

The root cause for the cracking in the STA 1380 frame inner chord and web under the roller guide track fitting is attributed to the out-of-plane bending stress induced from a mis-rigging condition of the No. 2 cargo door, which allows the roller pin on the lower cargo door to contact the roller guide track fitting. The new proposed repetitive inspections include removing the guide track fitting to inspect for any crack. The FAA is issuing this AD to detect and correct such cracks, which could result in rapid decompression of the airplane and the inability to sustain loads required for continued safe flight and landing.

FAA's Determination

The FAA is issuing this NPRM after determining that the unsafe condition described previously is likely to exist or develop on other products of the same type design.

Related Service Information Under 1 CFR Part 51

The FAA reviewed Boeing Alert Requirements Bulletin 757-53A0118 RB, dated October 22, 2021. This service information specifies procedures for a general visual inspection or a maintenance records check of the STA 1380 frame for any repair, and repetitive surface high frequency eddy current (HFEC) inspections of the STA 1380 frame inner chord and frame web for any cracking, repetitive sub-surface low frequency eddy current (LFEC) inspections of the STA 1380 frame inner chord for any cracking, and applicable corrective actions. Corrective actions include repair.

This AD would also require Boeing Alert Service Bulletin 757-53A0101, dated November 8, 2016, which the Director of the Federal Register approved for incorporation by reference as of January 9, 2018 (82 FR 57343, December 5, 2017).

This service information is reasonably available because the interested parties have access to it through their normal course of business or by the means identified in the ADDRESSES section.

Proposed AD Requirements in This NPRM

This proposed AD would retain all requirements of AD 2017-24-10. This proposed AD would add new airplanes and would require new inspection types in certain areas, an expanded inspection area, additional inspections, and applicable corrective actions. This proposed AD would require accomplishment of the actions identified in Boeing Alert Requirements Bulletin 757-53A0118 RB, dated October 22, 2021, described previously, except for any differences identified as exceptions in the regulatory text of this proposed AD.

Accomplishment of the applicable initial inspections and corrective actions specified in the Accomplishment Instructions of Boeing Alert Requirements Bulletin 757-53A0118 RB, dated October 22, 2021, terminates the inspections required by paragraphs (g) and (h) of this proposed AD.

For information on the procedures and compliance times, see this service information at https://www.regulations.gov by searching for and locating Docket No. FAA-2021-1073.

Costs of Compliance

The FAA estimates that this AD, if adopted as proposed, would affect 477 airplanes of U.S. registry. The FAA estimates the following costs to comply with this proposed AD:

Estimated Costs
Action | Labor cost | Parts cost | Cost per product | Cost on U.S. operators
Surface HFEC inspection (retained actions from AD 2017-24-10) | 5 work-hours × $85 per hour = $425 per inspection cycle | $0 | $425 per inspection cycle | $202,725 per inspection cycle.
Identify the material (retained actions from AD 2017-24-10) | Up to 2 work-hours × $85 per hour = $170 | 0 | Up to $170 | Up to $81,090.
General visual inspection (new proposed action) | 6 work-hours × $85 per hour = $510 | 0 | $510 | $243,270.
Surface frame inner chord HFEC inspection (new proposed action) | Up to 10 work-hours × $85 per hour = $850 per inspection cycle | 0 | Up to $850 per inspection cycle | Up to $405,450 per inspection cycle.
Sub-surface frame inner chord LFEC inspection (new proposed action) | Up to 6 work-hours × $85 per hour = $510 per inspection cycle | 0 | Up to $510 per inspection cycle | Up to $243,270 per inspection cycle.
Surface HFEC frame web inspection (new proposed action) | Up to 6 work-hours × $85 per hour = $510 per inspection cycle | 0 | Up to $510 per inspection cycle | Up to $243,270 per inspection cycle.

The FAA has received no definitive data on which to base the cost estimates for the on-condition repairs specified in this proposed AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-24-10, Amendment 39-19114 (82 FR 57343, December 5, 2017), and

b. Adding the following new AD:

The Boeing Company: Docket No. FAA-2021-1073; Project Identifier AD-2021-01252-T.

(a) Comments Due Date

The FAA must receive comments on this airworthiness directive (AD) action by March 7, 2022.

(b) Affected ADs

This AD replaces AD 2017-24-10, Amendment 39-19114 (82 FR 57343, December 5, 2017) (AD 2017-24-10).

(c) Applicability

This AD applies to all The Boeing Company Model 757-200, -200PF, -200CB, and -300 series airplanes, certificated in any category.

(d) Subject

Air Transport Association (ATA) of America Code 53, Fuselage.

(e) Unsafe Condition

This AD was prompted by reports of cracking found at the fuselage station (STA) 1380 frame inner chord and by reports of new crack findings outside of the AD 2017-24-10 inspection area, which the existing inspections will not detect. The FAA is issuing this AD to detect and correct such cracks, which could result in rapid decompression of the airplane and the inability to sustain loads required for continued safe flight and landing.

(f) Compliance

Comply with this AD within the compliance times specified, unless already done.

(g) Retained Inspection for Group 1 Airplanes, With No Changes

This paragraph restates the requirements of paragraph (g) of AD 2017-24-10, with no changes. For Group 1 airplanes as identified in Boeing Alert Service Bulletin 757-53A0101, dated November 8, 2016: At the applicable time specified in paragraph 1.E., “Compliance,” of Boeing Alert Service Bulletin 757-53A0101, dated November 8, 2016; except as specified in paragraph (i)(1) of this AD, do a surface high frequency eddy current (HFEC) inspection for any cracking of the fuselage STA 1380 frame inner chord, and do all applicable corrective actions, in accordance with the Accomplishment Instructions of Boeing Alert Service Bulletin 757-53A0101, dated November 8, 2016; except as specified in paragraph (i)(2) of this AD. Do all applicable corrective actions before further flight. Repeat the surface HFEC inspection, thereafter, at the times specified in paragraph 1.E., “Compliance,” of Boeing Alert Service Bulletin 757-53A0101, dated November 8, 2016.

(h) Retained Inspection for Group 2 Airplanes, With No Changes

This paragraph restates the requirements of paragraph (h) of AD 2017-24-10, with no changes. For Group 2 airplanes as identified in Boeing Alert Service Bulletin 757-53A0101, dated November 8, 2016: At the applicable time specified in paragraph 1.E., “Compliance,” of Boeing Alert Service Bulletin 757-53A0101, dated November 8, 2016, except as specified in paragraph (i)(1) of this AD, identify the material of the fuselage STA 1380 frame inner chord, in accordance with the Accomplishment Instructions of Boeing Alert Service Bulletin 757-53A0101, dated November 8, 2016.

(1) If the fuselage STA 1380 frame inner chord material 2024-T42 aluminum alloy is found during any identification required by paragraph (h) of this AD: No further action is required by this paragraph for that airplane.

(2) If the fuselage STA 1380 frame inner chord material 7075-T73 aluminum alloy is found during any identification required by the introductory text of paragraph (h) of this AD: Before further flight, do a surface HFEC inspection for any cracking of the fuselage STA 1380 frame inner chord, and do all applicable corrective actions, in accordance with the Accomplishment Instructions of Boeing Alert Service Bulletin 757-53A0101, dated November 8, 2016; except as specified in paragraph (i)(2) of this AD. Do all applicable corrective actions before further flight. Repeat the surface HFEC inspection thereafter at the times specified in paragraph 1.E., “Compliance,” of Boeing Alert Service Bulletin 757-53A0101, dated November 8, 2016.

(i) Retained Exceptions to the Service Information, With No Changes

This paragraph restates the requirements of paragraph (i) of AD 2017-24-10, with no changes.

(1) Where Boeing Alert Service Bulletin 757-53A0101, dated November 8, 2016, specifies a compliance time “after the original issue date of this service bulletin,” this AD requires compliance within the specified compliance time after January 9, 2018 (the effective date of AD 2017-24-10).

(2) Where Boeing Alert Service Bulletin 757-53A0101, dated November 8, 2016, specifies to contact Boeing for appropriate action and identifies that action as “RC” (Required for Compliance): Before further flight, repair the crack using a method approved in accordance with the procedures specified in paragraph (m) of this AD.

(j) New Required Actions

Except as specified by paragraph (k) of this AD: At the applicable times specified in the “Compliance” paragraph of Boeing Alert Requirements Bulletin 757-53A0118 RB, dated October 22, 2021, do all applicable actions identified in, and in accordance with, the Accomplishment Instructions of Boeing Alert Requirements Bulletin 757-53A0118 RB, dated October 22, 2021.

Note 1 to paragraph (j): Guidance for accomplishing the actions required by this AD can be found in Boeing Alert Service Bulletin 757-53A0118, dated October 22, 2021, which is referred to in Boeing Alert Requirements Bulletin 757-53A0118 RB, dated October 22, 2021.

(k) New Exceptions to Service Information Specifications

(1) Where the Compliance Time column of the tables in the “Compliance” paragraph of Boeing Alert Requirements Bulletin 757-53A0118 RB, dated October 22, 2021, uses the phrase “the original issue date of the Requirements Bulletin 757-53A0118 RB,” this AD requires using “the effective date of this AD.”

(2) Where Boeing Alert Requirements Bulletin 757-53A0118 RB, dated October 22, 2021, specifies contacting Boeing for repair instructions or for alternative inspections: This AD requires doing the repair, or doing the alternative inspections and applicable on-condition actions using a method approved in accordance with the procedures specified in paragraph (m) of this AD.

(l) Terminating Action for Certain Inspections

Accomplishment of the applicable initial inspections and corrective actions specified in the Accomplishment Instructions of Boeing Alert Requirements Bulletin 757-53A0118 RB, dated October 22, 2021, terminates the inspections required by paragraphs (g) and (h) of this AD.

(m) Alternative Methods of Compliance (AMOCs)

(1) The Manager, Los Angeles ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (n)(1) of this AD. Information may be emailed to: 9-ANM-LAACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved previously for AD 2017-24-10 are not approved as AMOCs with this AD.

(5) Except as specified by paragraph (i) of this AD: For service information that contains steps that are labeled as Required for Compliance (RC), the provisions of paragraphs (m)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

(1) For more information about this AD, contact Peter Jarzomb, Aerospace Engineer, Airframe Section, FAA, Los Angeles ACO Branch, 3960 Paramount Boulevard, Lakewood, CA 90712-4137; phone: 562-627-5234; email: peter.jarzomb@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Airworthiness Products Section, Operational Safety Branch, 2200 South 216th St., Des Moines, WA. For information on the availability of this material at the FAA, call 206-231-3195.

Issued on December 10, 2021.
Lance T. Gant,
Director, Compliance & Airworthiness Division, Aircraft Certification Service.

[FR Doc. 2022-01014 Filed 1-20-22; 8:45 am]

BILLING CODE 4910-13-P